NATIONAL TRANSPORTATION SAFETY BOARD

Aviation Safety Summit

On Wednesday, December 6, 2023, the National Transportation Safety Board (NTSB) will hold a Safety Summit on Mental Health and the Aviation Sector. The roundtable will begin at 9:30 a.m. and is open to the public. Attendance is free but attendees must register to attend. Visit www.ntsb.gov for more information. Chair Jennifer Homendy will preside over the safety summit.

Below is the preliminary agenda: (9:30 a.m. to 4:30 p.m.)

1. Opening remarks by Chair Homendy.

2. Panel 1: Accounts of those affected by current policies.

3. Panel 2: Presentations from a panel of Mental Health experts.

4. Panel 3: A roundtable discussion from experts including, academics, industry, and clinicians.

5. Chair Homendy Closing remarks.

The forum will be held in the NTSB Boardroom and Conference Center, located at 429 L'Enfant Plaza SW, Washington, DC. The public can view the forum in person. An archived version of the proceedings is expected to be available at a later date.

Individuals requiring reasonable accommodation and/or wheelchair access directions should contact Rochelle McCallister at (202) 314-6305 or by email at Rochelle.McCallister@ntsb.gov by Tuesday, November 28, 2023. Schedule updates, including weather-related cancellations, are also available at www.ntsb.gov.

NTSB Media Contact: Peter Knudson, peter.knudson@ntsb.gov.

NTSB Forum Manager: Sarah Puro, sarah.puro@ntsb.gov.

Candi R. Bing,
Federal Register Liaison Officer.

[FR Doc. 2023-25629 Filed 11-17-23; 8:45 am]

BILLING CODE 7533-01-P